DEPARTMENT OF DEFENSE

Department of the Army

Final Environmental Impact Statement (FEIS) for Enhanced Training and Operations at the National Guard Training Center (NGTC)—Fort Indiantown Gap (FTIG), PA

AGENCY: National Guard Bureau (NGB), Department of the Army, DoD.

ACTION: Notice of availability.

SUMMARY: The Pennsylvania Army National Guard (PAARNG) and the Pennsylvania Air National Guard (PAANG) have formulated long-range plans to ensure the continued and long-term viability of FTIG as a National Guard Training Center. The proposed plan, a total of 11 actions comprised of 42 component projects, is proposed for the specific purposes and needs set forth in the FEIS. These proposed actions consist of the construction or improvement of the following projects: (1) Tracked Vehicle Training Complex, (2) Ammunition Supply Point Facility, (3) Artillery Training Support Facility, (4) Multi-Purpose Training Range Facility, (5) NGTC-FTIG Garrison Facility, (6) Wastewater Treatment Plant and Collection System, (7) Muir Army Airfield Complex, (8) Air Guard Station Facilities, (9) Air-to-Ground Range Control Compound, (10) Regional Equipment Operator Training School, and (11) the implementation of the Integrated Natural Resources Management Plan. Each of the proposed actions have been determined to be necessary to allow the PAARNG and PAANG to continue to utilize the training site to support on-going military and civilian missions. By implementing each of these actions, NGTC-FTIG will continue to provide training and support facilities necessary to ensure its long-term viability, sustainability, and value as a major NGB training site.

DATES: The review period for the FEIS will end 30 days after publication of the NOA in the Federal Register by the U.S. Environmental Protection Agency.

ADDRESSES: Written comments or materials should be forwarded to Captain Geoffrey Lincoln, NGTC-FTIG EIS Project Officer, NGTC-FTIG, Environmental Section, 1119 Utility Road, Annville, Pennsylvania 17003-5002 or Lieutenant Colonel Christopher Cleaver, NGTC-FTIG Public Affairs Officer (PAO), PADMVA Headquarters, Building 0-47, Annville, Pennsylvania 17003-5002.

FOR FURTHER INFORMATION CONTACT: Captain Lincoln at (717) 861-2548 or Lieutenant Colonel Cleaver at (717) 861-8468.

SUPPLEMENTARY INFORMATION: The mission of the 28th Infantry Division (Mechanized) is to be trained and equipped to join the active forces in time of war or national emergency to respond to orders of the Governor, to protect lives and property during natural and man-made disasters, to clean up the environment, to fight to eradicate the illicit flow of drugs, and to serve as role models for future generations. Each of the proposed actions is necessary to allow the PAARNG and PAANG to productively utilize FTIG to support its on-going military and civilian missions.

Two alternatives in addition to the proposed action were considered: (1) Alternative 2 includes a scaled down or modified version of some or all of the proposed projects. This alternative primarily changes the scope of the Tracked Vehicle Training Complex, Multi-Purpose Training Range Facility, and Muir Military Runway/Enhancement proposed actions. The three alternative projects, coupled with the other eight actions as proposed in the EIS, comprise Alternative 2 and (2) Alternative 3, whereby none of the proposed upgrade or facility construction actions would be implemented; on-going actions will be continue; no new construction projects would be authorized except those already under construction or contracted for construction.

By implementing the proposed actions, NGTC-FTIG can continue to provide training and support facilities necessary to ensure its long-term viability, sustainability and value as a major NGB training site. A summary of impact analyses of previously completed Environmental Assessments is incorporated into the FEIS.

Dated: May 29, 2002.
Raymond J. Fatz,
Deputy Assistant Secretary of the Army (Environment, Safety and Occupational Health), OASA (I&E).

[FR Doc. 02-14070 Filed 6-4-02; 8:45 am]

BILLING CODE 3710-08-M